DEPARTMENT OF COMMERCE

National Oceanic and Atmospheric Administration

RIN 0648-XX28

Atlantic Coastal Fisheries Cooperative Management Act Provisions; Atlantic Coastal Shark Fishery

AGENCY: National Marine Fisheries Service (NMFS), National Oceanic and Atmospheric Administration (NOAA), Commerce.

ACTION: Notice of cancellation of Federal moratorium.

SUMMARY: NMFS announces the cancellation of the Federal moratorium on fishing for Atlantic coastal sharks in the State waters of New Jersey. NMFS canceled the moratorium, as required by the Atlantic Coastal Fisheries Cooperative Management Act (Atlantic Coastal Act), based on the determination that New Jersey is now in compliance with the Atlantic States Marine Fisheries Commission's (Commission) Interstate Fishery Management Plan for Atlantic Coastal Sharks (Coastal Shark Plan).

DATES: Effective July 30, 2010.

ADDRESSES: Emily Menashes, Acting Director, Office of Sustainable Fisheries, NMFS, 1315 East-West Highway, Room 13362, Silver Spring, MD 20910.

FOR FURTHER INFORMATION CONTACT: Brian Hooker, Fishery Management Specialist, NMFS Office of Sustainable Fisheries, (301) 713-2334.

SUPPLEMENTARY INFORMATION:

Background

On February 4, 2010, the Commission found that the State of New Jersey was out of compliance with the Commission's Coastal Shark Plan. Specifically, the Commission found that New Jersey had not implemented regulations that are necessary to rebuild depleted shark stocks, ensure sustainable harvest of others, and provide protection for sharks in nursing and pupping grounds found within State waters. The Commission forwarded the findings of their vote on February 4, 2010, in a formal non-compliance referral letter that was received by NMFS on February 8, 2010.

On March 16, 2010, NMFS notified the State of New Jersey and the Commission of its determination that New Jersey failed to carry out its responsibilities under the Commission's Coastal Shark Plan and that the measures New Jersey has failed to implement and enforce are necessary for the conservation of the shark resource. In this determination and notification, NMFS detailed the actions necessary to avoid the implementation of a Federal moratorium for sharks in New Jersey waters. Details of this determination were provided in a Federal Register notice published on April 27, 2010 (75 FR 22103), and are not repeated here.

Activities Pursuant to the Atlantic Coastal Act

The Atlantic Coastal Act specifies that, if, after a moratorium is declared with respect to a State, the Secretary is notified by the Commission that it is withdrawing the determination of noncompliance, the Secretary shall immediately determine whether the State is in compliance with the applicable plan. If the State is determined to be in compliance, the moratorium shall be terminated. On July 20,2010, NMFS received a letter from the Commission that New Jersey has taken corrective action to comply with the Coastal Shark Plan, and that the Commission has withdrawn its determination of noncompliance.

Cancellation of the Moratorium

Based on the Commission's July 20, 2010, letter, information received from the State of New Jersey, and NMFS review of New Jersey's revised coastal shark regulations, NMFS concurs with the Commission's determination that New Jersey is now in compliance with the Coastal Shark Plan. Therefore, the moratorium on fishing for, possession of, and landing of Atlantic coastal sharks by the recreational and commercial fishermen within New Jersey waters is canceled. NMFS, however, wishes to remind the public that although the Federal non-compliance moratorium is withdrawn, other State and Federal coastal shark regulations continue to remain in effect, including regulations that prohibit the landing of some shark species. NMFS urges the shark fishing public to be knowledgeable of all shark fishing regulations before engaging in the fishery.

Authority: 16 U.S.C. 5101 et seq.

Dated: July 26, 2010.
Eric C. Schwaab,
Assistant Administrator for Fisheries, National Marine Fisheries Service.

[FR Doc. 2010-18784 Filed 7-27-10; 4:15 pm]

BILLING CODE 3510-22-S